DEPARTMENT OF HEALTH AND HUMAN SERVICES

National Institutes of Health

Center for Scientific Review; Amended Notice of Meeting

Notice is hereby given of a change in the meeting of the Pregnancy and Neonatology Study Section, June 26, 2025, 09:00 a.m. to June 27, 2025, 08:00 p.m., National Institutes of Health, Rockledge II, 6701 Rockledge Drive, Bethesda, MD 20892 which was published in the Federal Register on May 29, 2025, 90 FR 22746, Doc No. 2025-09612.

This meeting is being amended to change the contact person from Andrew M. Wolfe to Anthony Chan, Scientific Review Officer, Center for Scientific Review, National Institutes of Health, 6701 Rockledge Drive, Bethesda, MD 20892, (301) 496-9392, anthony.chan@nih.gov. The meeting is closed to the public.

Dated: June 2, 2025.
Sterlyn H. Gibson,
Program Specialist, Office of Federal Advisory Committee Policy.

[FR Doc. 2025-10333 Filed 6-5-25; 8:45 am]

BILLING CODE 4140-01-P